Title 3—

The President

Executive Order 14311 of June 30, 2025

Establishing a White House Office for Special Peace Missions

By the authority vested in me as President by the Constitution and the laws of the United States of America, it is hereby ordered:

Section 1. White House Office for Special Peace Missions. In order to assist in bringing about the end of conflict and strife around the world, the Office for Special Peace Missions is hereby established within the White House Office. The Office for Special Peace Missions shall be headed by a Special Envoy for Peace Missions, who shall be appointed by the President. The Special Envoy for Peace Missions shall advance efforts aimed at ending ongoing conflicts abroad, and shall work towards these ends in coordination with the Department of State, the Department of Defense, and all other relevant executive departments and agencies.

Sec. 2. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

June 30, 2025.

[FR Doc. 2025-12505

Filed 7-2-25; 8:45 am]

Billing code 3395-F4-P